DEPARTMENT OF DEFENSE

Department of the Army

ARMS Initiative Implementation

AGENCY: Department of the Army, DOD.

ACTION: Notice of meeting.

SUMMARY: Pursuant to Public Law 92-463, notice is hereby given of the next meeting of the Armament Retooling and Manufacturing Support (ARMS) Executive Advisory Committee (EAC). The EAC encourages the development of new and innovative methods to optimize the asset value of the Government-Owned, Contractor-Operated ammunition industrial base for peacetime and national emergency requirements, while promoting economical and efficient processes at minimal operating costs, retention of critical skills, community economic benefits, and a potential model for defense conversion. This meeting will be hosted by the U.S. Army, Operations Support Command. The purpose of the meeting is to update the EAC and public on the status of ongoing actions, new items of interest, and suggested future direction/actions. Topics for this meeting will include—Strategic Planning for the ARMS Program; Legislative Issues Impacting the ARMS Program; Facility Contracting and Leasing; and ARMS Metrics. This meeting is open to the public.

Dates of Meeting: March 28-29, 2001.

Place of Meeting: Grand Casino Gulfport Hotel—Oasis Resort and Spa, 3215 West Beach Boulevard, Gulfport, MS 39501.

Time of Meeting: 8:30 AM-5:00 PM on March 28 and 7:30 AM-12:30 PM on March 29.

FOR FURTHER INFORMATION CONTACT: Mr. Mike Perez, U.S. Army Operations Support Command, Attn: AMSOS-CCM-E, Rock Island Arsenal, IL 61299; Phone (309) 782-3360.

SUPPLEMENTARY INFORMATION: A block of rooms has been reserved at the Grand Casino Gulfport Hotel for the nights of 27-29 March 2001. The Grand Casino Gulfport Hotel is located at 3215 West Beach Boulevard, Gulfport, MS 39501, Local Phone (228) 870-7777. Please make your reservations by calling 800-354-2450. Be sure to mention Public/Private Task Force #22. Reserve your room prior to February 25th to get the Government Rate of $70.00 a night. Also notify this office of your attendance by notifying Mike Perez, perezm@osc.army.mil, 309-782-3360 (DSN 793-3360). To insure adequate arrangements (transportation, conference facilities, etc.) for all attendees, we request your attendance notification with this office by March 1, 2001. Corporate casual is meeting attire.

Gregory D. Showalter,
Army Federal Register Liaison Officer.

[FR Doc. 01-4642 Filed 2-23-01; 8:45 am]

BILLING CODE 3710-08-P